DEPARTMENT OF DEFENSE

Department of the Army

Notice of Availability of A Novel Quantum-Well for Exclusive, Partially Exclusive or Non-Exclusive Licenses

AGENCY: U.S. Army Research Laboratory, DoD.

ACTION: Notice of availability.

SUMMARY: The Department of the Army announces the general availability of exclusive, partially exclusive or non-exclusive licenses relative to a novel quantum-well technology as described in the U.S. Patent #5,579,331; “Delta-strained quantum-well semiconductor lasers and optical amplifiers”; Shen, et al.; November 26, 1996. Licenses shall comply with 35 U.S.C. 209 and 37 CFR 404.

FOR FURTHER INFORMATION CONTACT: Michael D. Rausa, U.S. Army Research Laboratory, Office of Research and Technology Applications, ATTN: AMSRL-CS-TT/Bldg 459, Aberdeen Proving Ground, Maryland 21005-5425, Telephone: (410) 278-5028.

SUPPLEMENTARY INFORMATION: None.

Gregory D. Showalter,
Army Federal Register Liaison Officer.

[FR Doc. 00-27066 Filed 10-19-00; 8:45 am]

BILLING CODE 3710-08-M